DEPARTMENT OF COMMERCE

International Trade Administration

[A-570-863]

Honey From the People's Republic of China: Final Rescission, in Part, of Antidumping Duty Administrative Review

AGENCY: Import Administration, International Trade Administration, Department of Commerce.

ACTION: Notice of final rescission, in part, of antidumping duty administrative review.

SUMMARY: The Department of Commerce (the Department) has determined that the first administrative reviews of five PRC honey exporters/producers should be rescinded.

EFFECTIVE DATE: July 25, 2003.

FOR FURTHER INFORMATION CONTACT: Angelica Mendoza or Brandon Farlander at (202) 482-3019 or (202) 482-0182, respectively; Antidumping and Countervailing Duty Enforcement Group III, Import Administration, International Trade Administration, U.S. Department of Commerce, 14th Street and Constitution Avenue, NW., Washington, DC 20230.

SUPPLEMENTARY INFORMATION:

The Applicable Statute and Regulations

Unless otherwise indicated, all citations to the statute are references to the provisions effective January 1, 1995, the effective date of the amendments made to the Tariff Act of 1930 (the Act) by the Uruguay Round Agreements Act (URAA). In addition, unless otherwise indicated, all citations to the Department's regulations refer to the regulations codified at 19 CFR part 351 (April 2002).

Case History

On December 17, 2002, the Department published a Notice of Opportunity to Request an Administrative Review of Antidumping or Countervailing Duty Order, Finding, or Suspended Investigation, 67 FR 77222 (December 17, 2002). On December 31, 2002, the American Honey Producers Association and the Sioux Honey Association (collectively, petitioners) in this proceeding, requested, in accordance with section 351.213(b) of the Department's regulations, an administrative review of the antidumping duty order on honey from the People's Republic of China (PRC) covering the period May 11, 2001, through November 30, 2002.¹

¹ On January 27, 2003, the Department clarified that the period of review (POR) for certain PRC honey exporters/producers, including Wuhan, Shanghai Xiuwei, and Sichuan Dubao is February 10, 2001, through November 30, 2002. See Memorandum to the File through Donna L. Kinsella, Case Manager, Office 8; POR for Exporters of Honey from the People's Republic of China with Affirmative Critical Circumstances Findings (January 27, 2003) for further details.

Petitioners requested that the Department conduct an administrative review of entries of subject merchandise made by ten PRC producers/exporters, including Anhui Native Produce Import & Export Corp. (Anhui), Inner Mongolia Autonomous Region Native Produce and Animal By-Products (Inner Mongolia), Shanghai Xiuwei International Trading Co., Ltd. (Shanghai Xiuwei), Sichuan-Dujiangyan Dubao Bee Industrial Co., Ltd. (Sichuan Dubao), and Wuhan Bee Healthy Co., Ltd. (Wuhan).² We also received a timely request from Zhejiang Native Produce and Animal By-Products Import & Export Corp., a.k.a. Zhejiang Native Produce and Animal By-Products Import and Export Group Corporation (collectively Zhejiang), that the Department conduct an administrative review of entries of subject merchandise exported by Zhejiang during the POR. On January 22, 2003, the Department initiated an administrative review of all requested PRC honey exporters/producers. See Initiation of Antidumping and Countervailing Duty Administrative Reviews and Requests for Revocation in Part, 68 FR 3009 (January 22, 2003).

² The other five PRC honey exporters/producers included Henan Native Produce and Animal By-Products Import & Export Company, High Hope International Group Jiangsu Foodstuffs Import and Export Corp., Kunshan Foreign Trade Company, Shanghai Eswell Enterprise Co., Ltd., and Zhejiang.

In a separate proceeding, the Department received timely requests from Shanghai Xiuwei and Sichuan Dubao, in accordance with 19 CFR 351.214(c), for new shipper reviews of the antidumping duty order on honey from the PRC, which has a December annual anniversary month. On February 5, 2003, we published a Notice of Initiation of New Shipper Antidumping Duty Reviews, 68 FR 5868 (February 5, 2003) initiating new shipper reviews of Shanghai Xiuwei's and Sichuan Dubao's sales during the same POR as this administrative review.³

³ Moreover, the Department currently is conducting a six-month new shipper review of Wuhan's sales during the period December 1, 2001, through May 31, 2002. See Honey from the People's Republic of China: Initiation of New Shipper Antidumping Duty Reviews, 67 FR 50862 (August 6, 2002). See also Notice of Preliminary Results of Antidumping Duty New Shipper Review: Honey from the People's Republic of China, 68 FR 33099 (June 3, 2003).

On May 6, 2003, the Department preliminarily determined to rescind, in part, the administrative reviews of Anhui, Inner Mongolia, Shanghai Xiuwei, Sichuan Dubao, and Wuhan. See Memorandum to Barbara Tillman, Acting Deputy Assistant Secretary, AD/CVD Enforcement Group III; Intent to Partially Rescind Administrative Reviews (May 6, 2003) (Rescission Memo).

As discussed in the above-referenced Rescission Memo, this administrative review is intended to cover shipments of subject merchandise by Anhui and Inner Mongolia during the POR of May 11, 2001, through November 30, 2003. However, based upon our shipment data query and examination of entry documents, we determined that Anhui and Inner Mongolia did not ship subject merchandise during this period.

As discussed in the Department's Rescission Memo, the new shipper reviews of Shanghai Xiuwei and Sichuan Dubao covered the same POR as this administrative review. The Department also determined, with respect to Wuhan, that there were no other entries to review other than those currently under review in its new shipper review. Therefore, we determined that Shanghai Xiuwei, Sichuan Dubao, and Wuhan were new shippers and should not be subject to this proceeding.

We invited parties to comment on our Rescission Memo. On May 21, 2003, we received responses from Wuhan, Inner Mongolia, and Anhui in support of the Department's decision to rescind their respective administrative reviews. We did not receive comments from petitioners, Shanghai Xiuwei, nor Sichuan Dubao. Furthermore, interested parties did not submit case briefs or request a hearing. In summary, all parties commenting on the Rescission Memo supported the Department's preliminary decision to rescind these reviews, and there have been no changes since the Department placed its Rescission Memo on the record of this administrative review.

Scope of Review

The merchandise under review is honey from the PRC. The products covered are natural honey, artificial honey containing more than 50 percent natural honey by weight, preparations of natural honey containing more than 50 percent natural honey by weight, and flavored honey. The subject merchandise includes all grades and colors of honey whether in liquid, creamed, comb, cut comb, or chunk form, and whether packaged for retail or in bulk form. The merchandise under review is currently classifiable under item 0409.00.00, 1702.90.90 and 2106.90.99 of the Harmonized Tariff Schedule of the United States (HTSUS). Although the HTSUS subheading is provided for convenience and customs purposes, the written description of the merchandise under review is dispositive.

Rescission, in Part, of First Administrative Review

We provided interested parties with an opportunity to comment on our preliminary determination to rescind the administrative reviews of Anhui, Inner Mongolia, Shanghai Xiuwei, Sichuan Dubao, and Wuhan. As noted above, we received responses from Wuhan, Inner Mongolia, and Anhui in support of the Department's decision to rescind their respective administrative reviews. As discussed in detail in our Rescission Memo, because Anhui and Inner Mongolia made no entries, exports or sales of subject merchandise to the United States during the POR, we determined that these companies were non-shippers. Furthermore, because Wuhan, Shanghai Xiuwei, and Sichuan Dubao made no entries, exports or sales of subject merchandise to the United States not currently under review in their respective new shipper reviews, the Department determined to treat these companies as new shippers not subject to this administrative review. In accordance with §§ 351.213(d)(3) and 351.214(j)(1) of the Department's regulations, we are rescinding our administrative reviews of Anhui, Inner Mongolia, Shanghai Xiuwei, Sichuan Dubao, and Wuhan. See, e.g., Certain Non-Frozen Apple Juice Concentrate from the People's Republic of China: Final Results of 1999-2001 Administrative Review and Partial Rescission of Review, 67 FR 68987 (November 14, 2002); see also, Frozen Concentrated Orange Juice from Brazil: Final Results and Partial Rescission of Antidumping Duty Administrative Review, 67 FR 40913 (June 14, 2002)).

This notice also serves as a reminder to parties subject to an administrative protective order (APO) of their responsibility concerning the disposition of proprietary information disclosed under APO in accordance with 19 CFR 351.305. Timely notification of return/destruction of APO materials or conversion to judicial protective order is hereby requested. Failure to comply with the regulations and the terms of an APO are sanctionable violations.

This determination is issued and published pursuant to sections 751(a) and 777(i) of the Act.

Dated: July 22, 2003.
Richard O. Weible,
Acting Deputy Assistant Secretary for Import Administration, Group III.

[FR Doc. 03-19020 Filed 7-24-03; 8:45 am]

BILLING CODE 3510-DS-P